DEPARTMENT OF EDUCATION

Meeting of the President's Board Advisors on Tribal Colleges and Universities

AGENCY: President's Board of Advisors on Tribal Colleges and Universities, U.S. Department of Education.

ACTION: Notice of meeting.

SUMMARY: This notice sets forth the schedule and proposed agenda of an upcoming meeting of the President's Board of Advisors on Tribal Colleges and Universities (the Board) and is intended to notify the general public of their opportunity to attend. This notice also describe the functions of the Board. Notice of the Board's meetings is required under Section 10(a)(2) of the Federal Advisory Committee Act and by the Board's charter.

AGENDA: The purpose of the meeting will be to review agencies' Three-Year Plans and decide on timeliness for and format of the Board's upcoming Report to the President.

DATES AND TIME: September 17, 2003-9 a.m. to 5 p.m. and September 18, 2003-9 a.m. to 2 p.m.

LOCATION: Prairie Knights Lodge, 7932 Highway 24, Fort Yates, ND 58538.

FOR FURTHER INFORMATION CONTACT: Betty Thompson, Special Assistant, White House Initiative on Tribal Colleges and Universities, U.S. Department of Education, Suite 408, 555 New Jersey Avenue, NW., Washington, DC 20208. Telephone 202-219-0704. Fax: 202-208-2174.

SUPPLEMENTARY INFORMATION: The Board is established by Executive Order 13270, dated July 3, 2002, to provide advice regarding the progress made by Federal agencies toward fulfilling the purposes and objectives of the order. The Board also provides recommendations to the President, through the Secretary of Education, on ways the Federal government can help tribal colleges: (1) Use long-term development, endowment building and planning to strengthen institutional viability; (2) improve financial management and security, obtain private sector funding support, and expand and complement Federal education initiatives; (3) develop institutional capacity through the use of new and emerging technologies offered by both the Federal and private sectors; (4) enhance physical infrastructure to facilitate more efficient operation and effective recruitment and retention of students and faculty; and (5) help implement the No Child Left Behind Act of 2001 and meet other high standards of educational achievement.

The general public is welcome to attend the September 17-18, 2003, meeting. However, space is limited and is available on a first-come, first-serve basis. Individuals who need accommodations for a disability in order to attend the meeting (i.e. interpreting services, assistive listening devices, materials in alternative format) should notify Betty Thompson at (202) 219-0704 no later than September 3, 2003. We will attempt to meet requests after this date, but cannot guarantee availability of the requested accommodation. The meeting site is accessible to individuals with disabilities.

A summary of the activities of the meeting and other related materials that are informative to the public will be available to the public within 14 days after the meeting. Records are kept of all Board proceedings and are available for public inspection at the White House Initiative on Tribal Colleges and Universities, United States Department of Education, Suite 408, 555 New Jersey Avenue, NW., Washington, DC 20208.

Dated: August 21, 2003.
Rod Paige,
Secretary, U.S. Department of Education.

[FR Doc. 03-21862 Filed 8-26-03; 8:45 am]

BILLING CODE 4000-01-M